DEPARTMENT OF HEALTH AND HUMAN SERVICES

Administration for Children and Families

Agency Recordkeeping/Reporting Requirements Under Emergency Review by the Office of Management and Budget (OMB)

Title: Child Care and Development Fund (CCDF) Center-Based Provider List.

OMB No.: New request.

Description: The purpose of this request is to collect a list of center-based providers receiving CCDF funding in FY 2004. The Department will use this information to determine the involvement of Faith-Based and Community Organizations (FBCOs) in the CCDF program, the amount of funds used by different types of center-based providers and the mechanism through which center-based providers receive CCDF funds in each State.

The Faith-Based and Community Initiative (FBCI) is included in the President's Management Agenda, and the U.S. Department of Health and Human Services (HHS) is required to participate in the Initiative under several Executive Orders and regulations.

On January 29, 2001, Executive Order (EO) 13198, Agency Responsibilities with Respect to Faith-Based and Community Initiatives, charged the Department with identifying and eliminating regulatory, contracting and other obstacles that prevent full participation of FBCOs in the Department's programs (66 FR 8497). On December 12, 2002, EO 13279, Equal Protection of the Laws for Faith-Based and Community Organizations, charged the Department with ensuring equal treatment for FBCOs that apply to participate in the Department's programs (67 FR 77141).

On July 16, 2004, HHS published a final rule, “Participation in Department of Health and Human Services Programs by Religious Organizations; Providing for Equal Treatment of All Department of Health and Human Services Program Participants,” which ensured equal treatment for faith-based organizations regarding participation in HHS programs.

As part of the Department's effort to fulfill its responsibilities under these Executive Orders and as part of the HHS Child Care Bureau's statutory authority provider under Section 658K(a)(1)(B) of the Child Care and Development Block Grant of 1990, the Department will request data from State lead agencies involved in administering Federal funds through CCDF.

States have considerable latitude in administering and implementing their child care subsidy programs, including contracting with center-based providers within the State for child care slots to serve low-income families eligible for CCDF. The purpose of this request for data from the States is to collect a list of those center-based providers contracted directly by the State, or serving CCDF-subsidized children through receipt of vouchers or certificates, in FY 2004. The Department will use this information to determine the involvement of FBCOs in the CCDF program, the amount of funds used by different types of center-based providers and the mechanism through which center-based providers receive CCDF funds in each State.

Respondents: States, the District of Columbia and the Territories, including Puerto Rico, Guam, the Virgin Islands, American Samoa and the Northern Mariana Islands.

Annual Burden Estimates
Instrument | Number of respondents | Number of responses per respondent | Average burden hours per response | Total burden hours
ACF-901 | 56 | 1 | 16 | 896

Estimated Total Annual Burden Hours: 896 hours.

Additional Information: ACF is requesting that OMB grant a 180-day approval for this information collection under procedures for emergency processing by October 21, 2005. A copy of this information collection, with applicable supporting documentation, may be obtained by calling the Administration for Children and Families, Cheryl Vincent at (202) 205-0750. In addition, a request may be made by sending an e-mail request to: cvincent@acf.dhhs.gov.

Comments and questions about the information collection described above should be directed to the following address by October 21, 2005: Office of Information and Regulatory Affairs, Office of Management and Budget, Paperwork Reduction Project, Desk Officer for ACF, E-mail: Katherine_T._Astrich@omb.eop.gov.

Dated: September 28, 2005.
Robert Sargis,
Reports Clearance Officer.

[FR Doc. 05-19787 Filed 10-3-05; 8:45 am]

BILLING CODE 4184-01-M